DEPARTMENT OF ENERGY

Federal Energy Regulatory Commission

Combined Notice of Filings #1

Take notice that the Commission received the following electric rate filings:

Docket Numbers: ER21-2649-000.

Applicants: Macquarie Energy LLC.

Description: Refund Report for June 2021 spot market sales of Macquarie Energy LLC.

Filed Date: 2/3/23.

Accession Number: 20230203-5133.

Comment Date: 5 p.m. ET 2/24/23.

Docket Numbers: ER23-1065-000.

Applicants: SAGE Development Authority.

Description: Request for Prospective Tariff Waiver, et al. of SAGE Development Authority.

Filed Date: 2/7/23.

Accession Number: 20230207-5184.

Comment Date: 5 p.m. ET 2/21/23.

Docket Numbers: ER23-1072-000.

Applicants: Versant Power.

Description: § 205(d) Rate Filing: Amendment to Open Access Transmission Tariff for Maine Public District to be effective 6/1/2023.

Filed Date: 2/8/23.

Accession Number: 20230208-5117.

Comment Date: 5 p.m. ET 3/1/23.

Docket Numbers: ER23-1073-000.

Applicants: Midcontinent Independent System Operator, Inc.

Description: § 205(d) Rate Filing: 2023-02-09_SA 3489 Duke-Speedway Solar 2nd Rev GIA (J805) to be effective 1/27/2023.

Filed Date: 2/9/23.

Accession Number: 20230209-5029.

Comment Date: 5 p.m. ET 3/2/23.

Docket Numbers: ER23-1074-000.

Applicants: Evergy Metro, Inc.

Description: § 205(d) Rate Filing: Amendment Reflecting Transfer of Ownership of Certain Interconnection Equipment to be effective 2/10/2023.

Filed Date: 2/9/23.

Accession Number: 20230209-5033.

Comment Date: 5 p.m. ET 3/2/23.

Docket Numbers: ER23-1075-000.

Applicants: PJM Interconnection, L.L.C.

Description: § 205(d) Rate Filing: Second Revised ISA, Service Agreement No. 4138; Queue No. AD2-075 to be effective 1/30/2023.

Filed Date: 2/9/23.

Accession Number: 20230209-5036.

Comment Date: 5 p.m. ET 3/2/23.

Docket Numbers: ER23-1076-000.

Applicants: Midcontinent Independent System Operator, Inc., American Transmission Company LLC.

Description: § 205(d) Rate Filing: Midcontinent Independent System Operator, Inc. submits tariff filing per 35.13(a)(2)(iii: 2023-02-09_SA 2799 ATC-City of New London 2nd Rev CFA to be effective 4/11/2023.

Filed Date: 2/9/23.

Accession Number: 20230209-5039.

Comment Date: 5 p.m. ET 3/2/23.

Docket Numbers: ER23-1077-000.

Applicants: Northern States Power Company, a Minnesota corporation.

Description: Tariff Amendment: 2023-02-09 EGF Trans FAC 483 0.1.0 NOC to be effective 12/31/2022.

Filed Date: 2/9/23.

Accession Number: 20230209-5072.

Comment Date: 5 p.m. ET 3/2/23.

Docket Numbers: ER23-1078-000.

Applicants: Tampa Electric Company.

Description: § 205(d) Rate Filing: Amendment to Rate Schedule No. 6 with DEF_Dale Mabry and Morgan to be effective 4/11/2023.

Filed Date: 2/9/23.

Accession Number: 20230209-5091.

Comment Date: 5 p.m. ET 3/2/23.

Docket Numbers: ER23-1079-000.

Applicants: PJM Interconnection, L.L.C..

Description: § 205(d) Rate Filing: Amendment to ISA, Service Agreement No. 6206; Queue No. AE1-196 to be effective 4/11/2023.

Filed Date: 2/9/23.

Accession Number: 20230209-5113.

Comment Date: 5 p.m. ET 3/2/23.

Docket Numbers: ER23-1080-000.

Applicants: Arizona Public Service Company.

Description: § 205(d) Rate Filing: Service Agreement No. 408, HooDoo Wash LGIA to be effective 1/10/2023.

Filed Date: 2/9/23.

Accession Number: 20230209-5117.

Comment Date: 5 p.m. ET 3/2/23.

Docket Numbers: ER23-1081-000.

Applicants: PJM Interconnection, L.L.C.

Description: § 205(d) Rate Filing: Original NSA, Service Agreement No. 6806; Queue No. S14 to be effective 1/10/2023.

Filed Date: 2/9/23.

Accession Number: 20230209-5125.

Comment Date: 5 p.m. ET 3/2/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2023.
Debbie-Anne A. Reese,
Deputy Secretary.

[FR Doc. 2023-03203 Filed 2-14-23; 8:45 am]

BILLING CODE 6717-01-P